DEPARTMENT OF TRANSPORTATION

National Highway Traffic Safety Administration

49 CFR Part 571

Federal Motor Vehicle Safety Standards

CFR Correction

In Title 49 of the Code of Federal Regulations, Parts 400 to 599, revised as of October 1, 2005, on page 384, in § 571.111, add S9.4 to read as follows:

§ 571.111 Standard No. 111; Rearview mirrors.

* * * * *

S9.4(a) Each image required by S9.3(a)(1) to be visible at the driver's eye location shall be separated from the edge of the effective mirror surface of the mirror providing that image by a distance of not less than 3 minutes of arc.

(b) The image required by S9.3(a)(1) of cylinder P shall meet the following requirements:

(1) The angular size of the shortest dimension of that cylinder's image shall be not less than 3 minutes of arc; and

(2) The angular size of the longest dimension of that cylinder's image shall be not less than 9 minutes of arc.

* * * * *

[FR Doc. 05-55519 Filed 12-9-05; 8:45 am]

BILLING CODE 1505-01-D